DEPARTMENT OF ENERGY

Federal Energy Regulatory Commission

Combined Notice of Filings #2

Take notice that the Commission received the following electric corporate filings:

Docket Numbers: EC13-58-000.

Applicants: Blue Canyon Windpower LLC.

Description: Application for Authorization for Disposition of Jurisdictional Facilities and Request for Expedited Action of Blue Canyon Windpower LLC.

Filed Date: 1/2/13.

Accession Number: 20130102-5143.

Comments Due: 5 p.m. ET 1/23/13.

Take notice that the Commission received the following electric rate filings:

Docket Numbers: ER10-1763-001; ER10-1764-001; ER10-1765-001; ER10-1766-001; ER10-1767-001; ER10-1769-001; ER10-1642-003 ER10-1541-002.

Applicants: Entergy Arkansas, Inc., Entergy Gulf States Louisiana, L.L.C., Entergy Louisiana, LLC, Entergy Mississippi, Inc, Entergy Texas, Inc., Entergy New Orleans, Inc., EWO Marketing, Inc., Entergy Power, LLC.

Description: Notice of Non-Material Change in Status of Entergy Arkansas, Inc., et al.

Filed Date: 12/31/12.

Accession Number: 20121231-5242.

Comments Due: 5 p.m. ET 1/22/13.

Docket Numbers: ER12-569-002; ER12-775-001; ER10-1849-001; ER11-2037-001; ER12-2227-002; ER10-1887-001; ER10-1920-003; ER10-1928-003; ER10-1952-002; ER10-1961-001; ER12-1228-001; ER10-2720-003; ER11-4428-003; ER12-1880-002; ER10-1971-010 .

Applicants: Blackwell Wind, LLC, CPV Cimarron Renewable Energy Company, LLC, Elk City Wind, LLC, Elk City II Wind, LLC, Ensign Wind, LLC, FPL Energy Cowboy Wind, LLC, FPL Energy Oklahoma Wind, LLC, FPL Energy Sooner Wind, LLC, Gray County Wind Energy, LLC, High Majestic Wind Energy Center, LLC, High Majestic Wind II, LLC, Minco Wind, LLC, Minco Wind II, LLC, Minco Wind III, LLC, NextEra Energy Power Marketing, LLC.

Description: NextEra Companies submit Triennial Market Power Update for the Southwest Power Pool Region.

Filed Date: 12/27/12.

Accession Number: 20121227-5176.

Comments Due: 5 p.m. ET 2/25/13.

Docket Numbers: ER12-2627-001; ER10-2488-005; ER12-1931-002; ER10-2504-003; ER12-610-003; ER13-338-001.

Applicants: Catalina Solar, LLC, Oasis Power Partners, LLC, Pacific Wind Lessee, LLC, Shiloh Wind Project 2, LLC, Shiloh III Lessee, LLC, Shiloh IV Lessee, LLC.

Description: Triennial Market Power Analysis Update of the EDF Renewable Energy Inc. Southwest Region Companies.

Filed Date: 12/31/12.

Accession Number: 20121231-5255.

Comments Due: 5 p.m. ET 3/1/13.

Docket Numbers: ER13-690-000.

Applicants: Public Service Company of New Mexico.

Description: PNM Notice of Transmission Rate Change—Part 2 of 3 to be effective 3/2/2013.

Filed Date: 1/2/13.

Accession Number: 20130102-5000.

Comments Due: 5 p.m. ET 1/23/13.

Docket Numbers: ER13-691-000.

Applicants: PJM Interconnection, L.L.C.

Description: Original Service Agreement No. 3452; Queue No. W3-106 to be effective 12/18/2012.

Filed Date: 1/2/13.

Accession Number: 20130102-5076.

Comments Due: 5 p.m. ET 1/23/13.

Take notice that the Commission received the following electric reliability filings:

Docket Numbers: RD13-3-000.

Applicants: North American Electric Reliability Corporation.

Description: Petition of the North American Electric Reliability Corporation for Approval of Proposed Reliability Standard EOP-004-2—Event Reporting.

Filed Date: 12/31/12.

Accession Number: 20121231-5233.

Comments Due: 5 p.m. ET 1/30/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2013.
Nathaniel J. Davis, Sr.,
Deputy Secretary.

[FR Doc. 2013-00401 Filed 1-10-13; 8:45 am]

BILLING CODE 6717-01-P